DEPARTMENT OF COMMERCE

[I.D. 101802C]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Survey to Measure Effectiveness of Community-Oriented Policing for Endangered Species Act Enforcement.

Form Number(s): None.

OMB Approval Number: 0648-0435.

Type of Request: Regular submission.

Burden Hours: 316.

Number of Respondents: 787.

Average Hours Per Response: 45 minutes for a survey of Washington State Department of Fish and Wildlife and NOAA personnel; 60 minutes for an interview of public officials, managers, and key stakeholders; and 20 minutes for a survey of citizens.

Needs and Uses: Community-oriented policing (COP) promotes the use of various resources and policing-community partnerships for developing strategies to identify, analyze, and address community problems at their source. Recognizing the significant role non-traditional enforcement efforts will play in Endangered Species Act enforcement in the Northwest, a measurement tool has been developed to ensure that the performance outcomes of these non-traditional enforcement (COP) efforts are effectively measured. Through this instrument, COP efforts can be evaluated for success and elements essential for achieving successful outcomes in future programs can be identified and quantified. Anadromous species enforcement will be the focus of the survey.

Affected Public: Individuals or households, Federal, State, Local or Tribal Government.

Frequency: One-time.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: October 17, 2002.
Gwellnar Banks,
management Analyst, Office of the Chief Information Officer.

[FR Doc. 02-27164 Filed 10-23-02; 8:45 am]

BILLING CODE 3510-22-S